DEPARTMENT OF THE INTERIOR

Bureau of Reclamation

[G63-0982-9832-100-96-76, 84-55000]

Status Report of Water Service, Repayment, and Other Water-Related Contract Actions

AGENCY: Bureau of Reclamation, Interior.

ACTION: Notice.

SUMMARY: Notice is hereby given of contractual actions that have been proposed to the Bureau of Reclamation (Reclamation) and were pending through December 31, 2012, and contract actions that have been completed or discontinued since the last publication of this notice. From the date of this publication, future notices during this calendar year will be limited to new, modified, discontinued, or completed contract actions. This annual notice should be used as a point of reference to identify changes in future notices. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director shall furnish revised contracts to all parties who requested the contract in response to the initial public notice.

Definitions of Abbreviations Used in This Document

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

LCWSP Lower Colorado Water Supply Project

M&I Municipal and Industrial

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

1. Irrigation, M&I, and Miscellaneous Water Users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA.

5. Queener Irrigation Improvement District, Willamette Basin Project, Oregon: Renewal of long-term water service contract to provide up to 2,150 acre-feet of stored water from the Willamette Basin Project (a USACE project) for the purpose of irrigation within the District's service area.

6. West Extension ID, Umatilla Project, Oregon: Contract action for long-term boundary expansion to include lands outside federally recognized District boundaries.

7. Six water user entities of the Arrowrock Division, Boise Project, Idaho: Repayment agreements with districts with spaceholder contracts for repayment, per legislation, of the reimbursable share of costs to rehabilitate Arrowrock Dam Outlet Gates under the O&M program.

8. Five irrigation water user entities, Rogue River Basin Project, Oregon: Long-term contracts for exchange of water service with five entities for the provision of up to 1,163 acre-feet of stored water from Applegate Reservoir (a USACE project) for irrigation use in exchange for the transfer of out-of-stream water rights from the Little Applegate River to instream flow rights with the State of Oregon for instream flow use.

9. Cowiche Creek Water Users Association and Yakima-Tieton ID, Yakima Project, Washington: Warren Act contract to allow the use of excess capacity in Yakima Project facilities to convey up to 1,583.4 acre-feet of nonproject water for the irrigation of approximately 396 acres of nonproject land.

10. East Columbia Basin ID, Columbia Basin Project, Washington: Supplement No. 3 to the 1976 Master Water Service Contract providing for the delivery of up to 30,000 acre-feet of project water for the irrigation of 10,000 acres located within the Odessa Subarea with an additional 15,000 acre-feet of project water to be made available to benefit stream flows and fish in the Columbia River under this contract or a separate operating agreement.

11. Prineville Reservoir Water Users, Crooked River Project, Oregon: Repayment agreements with spaceholder contractors for reimbursable cost of SOD modifications to Arthur R. Bowman Dam.

12. East Columbia Basin ID, Columbia Basin Project, Washington: Amendment No. 1 to Supplement No. 2 to the 1976 Master Water Service Contract providing for the delivery of up to an additional 5,450.5 acre-feet of project water for the irrigation of 1,816.8 acres located within the Odessa Subarea under this contract.

13. Conagra Foods Lamb Weston, Inc., Columbia Basin Project, Washington: Miscellaneous purposes water service contract providing for the delivery of up to 1,500 acre-feet of water from the Scooteney Wasteway for effluent management.

14. Benton ID, Yakima Project, Washington: Amendatory contract to, among other things, withdraw the District from the Sunnyside Division Board of Control; provide for direct payment of the district's share of total operation, maintenance, repair, and replacement costs incurred by the United States in operation of storage division; and establish district responsibility for operation, maintenance, repair and replacement for irrigation distribution system.

15. Junction City Water Control District, Willamette River Basin Project, Oregon: Irrigation water service contract for approximately 8,000 acre-feet of project water.

Mid-Pacific Region: Bureau of Reclamation, 2800 Cottage Way, Sacramento, California 95825-1898, telephone 916-978-5250.

1. Irrigation water districts, individual irrigators, M&I and miscellaneous water users; California, Nevada, and Oregon: Temporary (interim) water service contracts for available project water for irrigation, M&I, or fish and wildlife purposes providing up to 10,000 acre-feet of water annually for terms up to 5 years; temporary Warren Act contracts for up to 10,000 acre-feet for use of excess capacity in project facilities for terms up to 5 years; temporary conveyance agreements with the State of California for various purposes; long-term contracts for similar service for up to 1,000 acre-feet annually.

2. Contractors from the American River Division, Cross Valley Canal, San Felipe Division, West San Joaquin Division, and Elk Creek Community Services District; CVP; California: Renewal of 30 interim and long-term water service contracts; water quantities for these contracts total in excess of 2.1M acre-feet. These contract actions will be accomplished through long-term renewal contracts pursuant to Pub. L. 102-575. Prior to completion of negotiation of long-term renewal contracts, existing interim renewal water service contracts may be renewed through successive interim renewal of contracts.

3. Redwood Valley County WD, SRPA, California: Restructuring the repayment schedule pursuant to Pub. L. 100-516.

4. El Dorado County Water Agency, CVP, California: M&I water service contract to supplement existing water supply. Contract will provide for an amount not to exceed 15,000 acre-feet annually authorized by Public Law 101-514 (Section 206) for El Dorado County Water Agency. The supply will be subcontracted to El Dorado ID and Georgetown Divide Public Utility District.

5. Sutter Extension WD, Delano-Earlimart ID, Pixley ID, the State of California Department of Water Resources, and the State of California Department of Fish and Wildlife; CVP; California: Pursuant to Public Law 102-575, agreements with non-Federal entities for the purpose of providing funding for CVPIA refuge water conveyance and/or facilities improvement construction to deliver water for certain Federal wildlife refuges, State wildlife areas, and private wetlands.

6. CVP Service Area, California: Temporary water acquisition agreements for purchase of 5,000 to 200,000 acre-feet of water for fish and wildlife purposes as authorized by Pub. L. 102-575 for terms of up to 5 years.

7. El Dorado ID, CVP, California: Long-term Warren Act contract for conveyance of nonproject water in the amount of up to 17,000 acre-feet annually. The contract will allow CVP facilities to be used to deliver nonproject water to the District for M&I use within its service area.

8. Horsefly, Klamath, Langell Valley, and Tulelake IDs; Klamath Project; Oregon: Repayment contracts for SOD work on Clear Lake Dam. These districts will share in repayment of costs, and each district will have a separate contract.

9. Casitas Municipal WD, Ventura Project, California: Repayment contract for SOD work on Casitas Dam.

10. Warren Act Contracts, CVP, California: Execution of long-term Warren Act contracts (up to 25 years) with various entities for conveyance of nonproject water in the CVP.

11. Tuolumne Utilities District (formerly Tuolumne Regional WD), CVP, California: Long-term water service contract for up to 9,000 acre-feet from New Melones Reservoir, and possibly a long-term contract for storage of nonproject water in New Melones Reservoir.

12. Banta Carbona ID, CVP, California: Long-term Warren Act contract for conveyance of nonproject water in the Delta-Mendota Canal.

13. Byron-Bethany ID, CVP, California: Long-term operational contract for conveyance of nonproject water and exchange of project water using Delta Division facilities of the CVP.

14. Madera-Chowchilla Water and Power Authority, CVP, California: Agreement to transfer the operation, maintenance, and replacement and certain financial and administrative activities related to the Madera Canal and associated works.

15. Sacramento Suburban WD, CVP, California: Execution of long-term Warren Act contract for conveyance of 29,000 acre-feet of nonproject water. The contract will allow CVP facilities to be used to deliver nonproject water provided from the Placer County Water Agency to the District for use within its service area.

16. Town of Fernley, State of California, City of Reno, City of Sparks, Washoe County, State of Nevada, Truckee-Carson ID, and any other local interest or Native American Tribal Interest who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the Truckee River Operating Agreement.

17. Delta Lands Reclamation District No. 770, CVP, California: Long-term Warren Act contract for conveyance of up to 300,000 acre-feet of nonproject flood flows via the Friant-Kern Canal for flood control purposes.

18. Pershing County Water Conservation District, Pershing County, Lander County, and the State of Nevada; Humboldt Project; Nevada: Title transfer of lands and features of the Humboldt Project.

19. Mendota Wildlife Area, CVP, California: Reimbursement agreement between the California Department of Fish and Wildlife and Reclamation for conveyance service costs to deliver Level 2 water to the Mendota Wildlife Area during infrequent periods when the Mendota Pool is down due to unexpected but needed maintenance. This action is taken pursuant to Public Law 102-575, Title 34, Section 3406(d)(1), to meet full Level 2 water needs of the Mendota Wildlife Area.

20. Mercy Springs WD, CVP, California: Proposed partial assignment of 2,825 acre-feet of the District's CVP supply to San Luis WD for irrigation and M&I use.

21. Oro Loma WD, CVP, California: Proposed partial assignment of 4,000 acre-feet of the District's CVP supply to Westlands WD for irrigation and M&I use.

22. San Luis WD, CVP, California: Proposed partial assignment of 2,400 acre-feet of the District's CVP supply to Santa Nella County WD for M&I use.

23. Placer County Water Agency, CVP, California: Proposed exchange agreement under section 14 of the 1939 Act to exchange up to 71,000 acre-feet annually of the Agency's American River Middle Fork Project water for use by Reclamation, for a like amount of CVP water from the Sacramento River for use by the Agency.

24. Irrigation Contractors, Klamath Project, Oregon: Amendment of repayment contracts or negotiation of new contracts to allow for recovery of additional capital costs.

25. Orland Unit Water User's Association, Orland Project, California: Repayment contract for the SOD costs assigned to the irrigation of Stony Gorge Dam.

26. Goleta WD, Cachuma Project, California: An agreement to transfer title of the federally owned distribution system to the District subject to approved legislation.

27. Cawelo WD, CVP, California: Long-term Warren Act contract for conveying up to 20,000 acre-feet annually of previously banked nonproject water in the Friant-Kern Canal.

28. Colusa County WD, CVP, California: Execution of a long-term Warren Act contract for conveyance of up to 40,000 acre-feet of groundwater per year through the use of the Tehama-Colusa Canal.

29. County of Tulare, CVP, California: Proposed assignment of the County's Cross Valley Canal water supply in the amount of 5,308 acre-feet to its various subcontractors. Water will be used for both irrigation and M&I purposes.

30. City of Santa Barbara, Cachuma Project, California: Execution of a temporary contract and a long-term Warren Act contract with the City for conveyance of nonproject water in Cachuma Project facilities.

31. Water user entities responsible for payment of O&M costs for Reclamation projects in California, Nevada, and Oregon: Contracts for extraordinary maintenance and replacement funded pursuant to ARRA. Added costs to rates to be collected under irrigation and interim M&I ratesetting policies.

32. Water user entities responsible for payment of O&M costs for Reclamation projects in California, Nevada, and Oregon: Contracts for extraordinary maintenance and replacement funded pursuant to Subtitle G of Public Law 111-11.

33. Cachuma Operation and Maintenance Board, Cachuma Project, California: Amendment to SOD Contract No. 01-WC-20-2030 to provide for increased SOD costs associated with Bradbury Dam.

34. Reclamation will become signatory to a three-party conveyance agreement with the Cross Valley Contractors and the California State Department of Water Resources for conveyance of Cross Valley Contractors' CVP water supplies that are made available pursuant to long-term water service contracts.

35. Westlands WD, CVP, California: Negotiation and execution of a long-term repayment contract to provide reimbursement of costs related to the construction of drainage facilities. This action is being undertaken to satisfy the Federal Government's obligation to provide drainage service to Westlands located within the San Luis Unit of the CVP.

36. San Luis WD, Meyers Farms Family Trust, and Reclamation, CVP, California: Revision of an existing contract between San Luis WD, Meyers Farms Family Trust, and Reclamation providing for an increase in the exchange of water from 6,316 to 10,526 acre-feet annually and an increase in the storage capacity of the bank to 60,000 acre-feet.

37. San Joaquin Valley National Cemetery, U.S. Department of Veteran Affairs, Delta Division, CVP, California: Negotiation of a 5-year wheeling agreement with an effective date in 2011 is pending. A wheeling agreement with the State of California, Department of Water Resources provides for the conveyance and delivery of CVP water through State of California facilities to the San Joaquin Valley National Cemetery.

38. Byron-Bethany ID, CVP, California: A current wheeling agreement with the State of California, Department of Water Resources and Byron-Bethany ID for the conveyance and delivery of CVP water through the California State Aqueduct to Musco Family Olive Company, a customer of Byron-Bethany.

39. Tea Pot Dome WD and Saucelito ID, CVP, California: Partial assignment of 300 acre-feet of Tea Pot Dome's current Friant Division contract class 1 water supply to Saucelito ID.

40. Lewis Creek WD and Hills Valley ID, CVP, California: Partial assignment of 250 acre-feet of Lewis Creek's current Friant Division contract class 1 water to Hills Valley ID.

41. Porterville ID and Hills Valley ID, CVP, California: Partial assignment of 1,000 acre-feet of Porterville's class 1 water to Hills Valley ID.

42. Exeter ID and Tri-Valley WD, CVP, California: Partial assignment of 400 acre-feet of Exeter's class 1 water to Tri-Valley WD.

43. Contra Costa WD, CVP, California: Amendment to an existing O&M agreement to transfer O&M of the Contra Costa Rock Slough Fish Screen to the district. Initial construction funding provided through ARRA.

44. San Luis and Delta-Mendota Water Authority, CVP, California: Amendment to an existing O&M agreement to transfer O&M of the Delta-Mendota Canal California Aqueduct Intertie Project to the Authority. Initial construction funding provided through ARRA.

45. Irrigation water districts, individual irrigators and M&I water users, CVP, California: Temporary water service contracts for terms not to exceed 1 year for up to 100,000 acre-feet of surplus supplies of CVP water resulting from an unusually large water supply, not otherwise storable for project purposes, or from infrequent and otherwise unmanaged flood flows of short duration.

46. Irrigation water districts, individual irrigators, M&I and miscellaneous water users, CVP, California: Temporary Warren Act contracts for terms up to 5 years providing for use of excess capacity in CVP facilities for annual quantities exceeding 10,000 acre-feet.

47. City of Redding, CVP, California: Proposed partial assignment of 30 acre-feet of the City of Redding's CVP water supply to the City of Shasta Lake for M&I use.

48. Langell Valley ID, Klamath Project; Oregon: Title transfer of lands and facilities of the Klamath Project.

49. Virginia L. Lempesis Separate Property Trust, CVP, California: Contract for the adjustment and settlement of certain claimed water rights in the Fresno Slough tributary to the San Joaquin River in fulfillment of such rights pursuant to contract No.I1r-1145 for the purchase of Miller & Lux Water Rights, dated July 27, 1939.

50. Sacramento River Division, CVP, California: Administrative assignments of various Sacramento River Settlement Contracts.

51. Conaway Preservation Group, LLC, Sacramento River Division, CVP, California: Proposed assignment of 10,000 acre-feet of water under an existing Sacramento River Settlement Contract to the Woodland-Davis Clean Water Agency.

52. California Department of Fish and Game, CVP, California: To extend the term of and amend the existing water service contract for the Department's San Joaquin Fish Hatchery to allow an increase from 35 cubic feet per second to 60 cubic feet per second of continuous flow to pass through the Hatchery prior to it returning to the San Joaquin River.

53. Orland Unit Water User's Association, Orland Project, California: Title transfer of lands and features of the Orland Project.

54. Santa Clara Valley WD, CVP, California: Second amendment to Santa Clara Valley WD's water service contract to add an additional point of delivery.

55. PacifiCorp, Klamath Project, Oregon and California: Transfer of O&M of Link River Dam and associated facilities. Contract will allow for the continued O&M by PacifiCorp.

56. Tulelake ID, Klamath Project, Oregon and California: Transfer of O&M of Station 48 and gate on Drain #1, Lost River Diversion Channel.

Lower Colorado Region: Bureau of Reclamation, P.O. Box 61470 (Nevada Highway and Park Street), Boulder City, Nevada 89006-1470, telephone 702-293-8192.

1. Milton and Jean Phillips, BCP, Arizona: Colorado River water delivery contract for 60 acre-feet of Colorado River water per year as recommended by the Arizona Department of Water Resources.

2. John J. Peach, BCP, Arizona: Colorado River water delivery contracts for 456 acre-feet of Colorado River water per year as recommended by the Arizona Department of Water Resources.

3. Gila Project Works, Gila Project, Arizona: Title transfer of facilities and certain lands in the Wellton-Mohawk Division from the United States to the Wellton-Mohawk IDD.

4. Sherrill Ventures, LLLP and Green Acres Mohave, LLC; BCP; Arizona: Draft contracts for PPR No. 14 for 1,080 acre-feet of water per year as follows: Sherrill Ventures, LLLP, a draft contract for 954.3 acre-feet per year and Green Acres Mohave, LLC, a draft contract for 125.7 acre-feet per year.

5. Water user entities responsible for payment of O&M costs for Reclamation projects in Arizona, California, Nevada, and Utah: Contracts for extraordinary maintenance and replacement funded pursuant to ARRA.

6. Water user entities responsible for payment of O&M costs for Reclamation projects in Arizona, California, Nevada, and Utah: Contracts for extraordinary maintenance and replacement funded pursuant to Subtitle G of Public Law 111-11.

7. Bureau of Land Management, LCWSP, California: Amend contract No. 8-07-30-W0375 to add a new point of diversion and place of use; San Bernardino County's Park Moabi, a Bureau of Land Management-leased site.

8. San Carlos Apache Tribe and the Town of Gilbert, CAP, Arizona: Proposed 100-year lease not to exceed 5,925 acre-feet per year of CAP water from the Tribe to Gilbert.

9. Cha Cha, LLC, BCP, Arizona: Proposed amendment to a contract exhibit to delete reference to specific irrigated acres.

10. Gila River Indian Community and Apache Junction, CAP, Arizona: Approve a CAP water lease for 1,000 acre-feet per year which will end on the 100th anniversary of the option effective date as described in the lease.

11. Arizona Recreational Facilities, LLC and Lake Havasu City, BCP, Arizona: Approve a partial assignment and transfer of 12.7 acre-feet per year of Arizona fourth priority Colorado River water from Arizona Recreational Facilities to Lake Havasu City and the related amendments.

12. ASARCO and Central Arizona Water Conservation District, CAP, Arizona: Amend ASARCO's CAP water delivery subcontract to allow for direct delivery as well as exchange.

13. City of Yuma, BCP, Arizona: Amend the City's contract to extend the term (which expired October 2012) for 5 years during which time a consolidated contract will be developed.

14. Imperial ID, BCP, California: Develop an agreement between Reclamation and Imperial ID for the funding of the design approval and construction of a facilities electrical upgrade at Imperial Dam.

15. City of Needles, LCWSP, California): Develop an agreement between Reclamation and the City of Needles for the funding of the design approval and construction of Stage II of the Project.

16. Ak-Chin Indian Community and Pascua Yaqui Tribe, CAP, Arizona: Proposed water lease for 1,000 acre-feet per year for 5 years.

17. White Mountain Apache Tribe and Various Entities, CAP, Arizona: Execute a CAP water delivery contract with White Mountain and leases with various entities for a total of up to 25,000 acre-feet annually of CAP water in accordance with the White Mountain settlement act (Title III of Pub. L. 111-291) and settlement agreement.

Completed contract actions:

1. San Carlos Apache Tribe and Town of Gilbert, CAP, Arizona: Execute amendment No. 1 to a CAP water lease to increase the 2011 water delivery from 20,000 acre-feet to 25,925 acre-feet, and extend the leasing arrangement from January 1, 2012, to December 31, 2012, for 20,000 acre-feet. Completed June 28, 2012.

2. Arizona Recreational Facilities, LLC and EPCOR Water Arizona Inc., BCP, Arizona: Approve a partial assignment and transfer of 14 acre-feet per year of Arizona fourth priority Colorado River water from Arizona Recreational Facilities to EPCOR and the related amendments. Completed November 15, 2012.

3. San Carlos Apache Tribe and the Town of Gilbert, CAP, Arizona: Execute amendment No. 2 to a CAP water lease to extend the term of the lease through 2013 for 20,000 acre-feet. Completed November 16, 2012.

4. Imperial ID, Colorado River Front Work and Levee System, California: Execute an amendatory and supplemental contract with Imperial ID for the refurbishment of certain motors and pumps at the Senator Wash Pump-Generating Facility—Supplement No. 2, to permit the purchase by Imperial ID of the diagnostic and service equipment that is needed and to delete provisions and exhibits that are not applicable. Completed September 21, 2012.

5. San Carlos Apache Tribe and Pascua Yaqui Tribe, CAP, Arizona: Execute a CAP water lease among the United States, the San Carlos Apache Tribe, and the Pascua Yaqui Tribe in order for the San Carlos Apache Tribe to lease 1,000 acre-feet of its CAP water to the Pascua Yaqui Tribe during calendar year 2013 under the terms and conditions of the lease. Completed December 19, 2012.

Upper Colorado Region: Bureau of Reclamation, 125 South State Street, Room 6107, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10, 000 acre-feet of water annually for terms up to 10 years; long-term contracts for similar service for up to 1,000 acre-feet of water annually.

2. San Juan-Chama Project, New Mexico: The United States and the Town of Taos, with passage of The Taos Indian Water Rights Settlement legislation by the Congress, entered into a new contract, No. 12-WC-40-462, for an additional 366 acre-feet annually of project water. The settlement legislation provided for a third repayment contract for 40 acre-feet of project water to be delivered to the El Prado Water and Sanitation District, contract No. 12-WC-40-463. The United States is holding the remaining 369 acre-feet of project water for potential use in Indian water rights settlements in New Mexico.

3. Various Contactors, San Juan-Chama Project, New Mexico: The United States proposes to continue leasing water from various project contractors to stabilize flows in a critical reach of the Rio Grande in order to meet the needs of irrigators and preserve habitat for the silvery minnow. For the purposes stated above, in September 2012, the United States purchased 154 acre-feet of water rights from Price's Dairy for $2,002,659.30.

4. Individual Irrigators, Carlsbad Project, New Mexico: The United States proposes to continue entering into forbearance contracts and lease agreements with individuals who have privately held water rights to divert nonproject water either directly from the Pecos River or from shallow/artesian wells in the Pecos River Watershed. This action will result in additional water in the Pecos River to make up for the water depletions caused by changes in operations at Sumner Dam which were made to improve conditions for a threatened species, the Pecos bluntnose shiner.

5. City of Page, Arizona, Glen Canyon Unit, CRSP, Arizona: Long-term contract for 975 acre-feet of water for municipal purposes.

6. Southern Ute Indian Tribe, Animas-La Plata Project, Colorado: Water delivery contract for 33,519 acre-feet of M&I water; contract terms to be consistent with the Colorado Ute Settlement Act Amendments of 2000 (Title III of Pub. L. 106-554).

7. Ute Mountain Ute Tribe, Animas-La Plata Project, Colorado: Water delivery contract for 33,519 acre-feet of M&I water; contract terms to be consistent with the Colorado Ute Settlement Act Amendments of 2000 (Title III of Pub. L. 106-554).

8. State of Colorado, Animas-La Plata Project, Colorado and New Mexico: Cost-sharing/repayment contract for up to 10,440 acre-feet per year of M&I water; contract terms to be consistent with the Colorado Ute Settlement Act Amendments of 2000 (Title III of Pub. L. 106-554).

9. Public Service Company of New Mexico, Reclamation, and the U.S. Fish and Wildlife Service; San Juan River Basin Recovery Implementation Program: The agreement identifies that Reclamation may provide cost-share funding for the recovery monitoring and research, and O&M of the constructed fish passage at the Public Service Company's site pursuant to Public Law 106-392, dated October 30, 2000 (114 Stat. 1602).

10. Jensen Unit, Central Utah Project, Utah: The Uintah Water Conservancy District has requested a contract with provisions to prepay the entire 3,300 acre-feet of Project M&I water.

11. Aaron Million, Million Conservation Resource Group, Flaming Gorge Storage Unit, CRSP: Mr. Million has requested a standby contract to secure the first right to contract for up to 165,000 acre-feet annually of M&I water service from Flaming Gorge Reservoir for a proposed privately financed and constructed transbasin diversion project.

12. Albuquerque Bernalillo County Water Utility Authority and Reclamation, San Juan-Chama Project, New Mexico: Contract to store up to 50,000 acre-feet of project water in Elephant Butte Reservoir. The proposed contract would have a 40-year maximum term, which due to ongoing consultations with the U.S. Fish and Wildlife Service, the existing Contract No. 3-CS-53-01510 which expired on January 26, 2008, has been extended annually. The Act of December 29, 1981, Public Law 97-140, 95 Stat. 1717 provides authority to enter into this contract.

13. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

14. Elkhead Reservoir Enlargement: This contract will supersede Contract No. 05-WC-40-420. The proposed contract will include the Recovery Program's pro-rata share of the actual construction cost plus fish screen costs. Also identified in this proposed contract is the pro-rata share of the actual construction costs for the other signatory parties. Upon payment by Recovery Program, this proposed contract will ensure a permanent water supply for the endangered fish.

15. Bridger Valley Water Conservancy District, Lyman Project, Wyoming: The District has requested that their Meeks Cabin repayment contract be amended from two 25-year contacts to one 40-year contract.

16. City of Santa Fe and Reclamation, San Juan-Chama, New Mexico: Contract to store up to 50,000 acre-feet of project Water in Elephant Butte Reservoir. The proposed contract would have a 25- to 40-year maximum term, which due to ongoing consultations with the U.S. Fish and Wildlife Service, has been executed and extended on an annual basis. The Act of December 29, 1981, Public Law 97-140, 95 Stat. 1717 provides authority to enter into this contract.

17. Water user entities responsible for payment of O&M costs for Reclamation projects in Arizona, Colorado, New Mexico, Texas, Utah, and Wyoming: Contracts for extraordinary maintenance and replacement funded pursuant to Subtitle G of Public Law 111-11.

18. Pine Glen, LLC, Mancos Project, Colorado: Pine Glen LLC has requested a new carriage contract to replace existing contract No. 14-06-400-4901, assignment No. 6. The new contract is the result of a property sale. Remaining interest in the existing assignment is for 0.56 cubic feet per second of nonproject water to be carried through Mancos Project facilities.

19. Voiles, Katherine Marie and William Thomas, Mancos Project, Colorado: Katherine Marie and William Thomas Voiles have requested a new carriage contract to replace existing contract No. 14-06-400-4901, assignment No. 2-A. The new contract is the result of a property sale. Remaining interest in the existing assignment is for 0.38 cubic feet per second of nonproject water to be carried through Mancos Project facilities.

20. Hanson, Brian E. and Joan M. Brake-Hanson, Mancos Project, Colorado: Brian E. Hanson and Joan M. Brake-Hanson have requested a new carriage contract to replace existing contract No. 14-06-400-4901, assignment No. 5. The new contract is the result of a property sale. Remaining interest in the existing assignment is for 0.12 cubic feet per second of nonproject water to be carried through Mancos Project facilities.

21. Animas-La Plata Project, Colorado-New Mexico: Navajo Nation title transfer agreement for the Navajo Nation Municipal Pipeline for facilities and land outside the corporate boundaries of the City of Farmington, New Mexico; contract terms to be consistent with the Colorado Ute Settlement Act Amendments of 2000 (Title III of Pub. L. 106-554) and the Northwestern New Mexico Rural Water Projects Act (Title X of Pub. L. 111-11); City of Farmington, New Mexico, title transfer agreement for the Navajo Nation Municipal Pipeline for facilities and land inside the corporate boundaries of the City of Farmington; New Mexico, contract terms to be consistent with the Colorado Ute Settlement Act Amendments of 2000 (Title III of Pub. L. 106-554) and the Northwestern New Mexico Rural Water Projects Act (Title X of Pub. L. 111-11); and an Operations Agreement between the Navajo Nation and the City of Farmington, New Mexico, consistent with Sec 10605 of the Northwestern New Mexico Rural Water Projects Act (Title X of Pub. L. 111-11).

22. Orchard Mesa Canal Automation Project, Orchard Mesa Division, Grand Valley Project, Colorado: Orchard Mesa ID has requested improvements to its delivery system. The major components of the current configuration of the improvements include a buffer reservoir, Supervisory Control and Data Acquisition system, pumping station, replacing the unlined portion of the Mutual Mesa Lateral with a pipeline and installing a booster pump, and enhancements to Canal Nos. 1 and 2. Act of June 17, 1902 (32 Stat. 388) and acts amendatory thereof or supplementary thereto, particularly the Endangered Species Act 16 U.S.C. 1531, Section 2; Act of October 30, 2000 (Pub. L. 106-392).

23. El Paso County Water Improvement District No. 1 and Ysleta del Sur Pueblo, Rio Grande Project, Texas: Contract to convert up to 1,000 acre-feet of the Pueblo's project irrigation water to use for tradition and religious purposes.

24. Uintah Water Conservancy District, Vernal Unit, CUP, Utah: Proposed carriage contract to both store up to 35,000 acre-feet of nonproject water in Steinaker Reservoir and carry nonproject water in the Steinaker Service and Feeder Canals.

25. Uintah Water Conservancy District, Jensen Unit, CUP, Utah: Proposed carriage contract to both store up to 5,000 acre-feet of nonproject water in Red Fleet Reservoir and carry nonproject water in the project Canals.

26. Emery County Project, Utah: PacifiCorp Energy Corporation has requested renewal of its water service contract for 6,000 acre-feet of project M&I water from Joe's Valley Reservoir, Emery County Project.

27. Weber Basin Project, Utah: The North Summit Pressurized Irrigation Company has requested a carriage contract for up to 7,000 acre-feet of nonproject water through Wanship Dam and outlet works, Weber Basin Project.

28. Blue Cut Mitigation Project and Emery County Project, Utah: Reclamation has proposed an exchange under which it would provide an augmentation to flows in the San Rafael River to the Fish and Wildlife Service in exchange for the Fish and Wildlife Service transferring water right No. 93-2241 to Reclamation, Emery County Project.

29. Jensen Unit, CUP, Utah: Temporary water service contract with the Uintah Water Conservancy District for use of the 3,300 acre-feet of Jensen Unit M&I water during drought years.

Completed contract action:

1. Navajo-Gallup Water Supply Project, New Mexico: Repayment contract with the Jicarilla Apache Nation for up to 1,200 acre-feet per year of M&I water. Contract terms to be consistent with the Northwestern New Mexico Rural Water Projects Act (Title X of Pub. L. 111-11). Completed April 12, 2012.

Great Plains Region: Bureau of Reclamation, P.O. Box 36900, Federal Building, 316 North 26th Street, Billings, Montana 59101, telephone 406-247-7752.

1. Irrigation, M&I, and miscellaneous water users; Colorado, Kansas, Montana, Nebraska, North Dakota, Oklahoma, South Dakota, Texas, and Wyoming: Water service contracts for the sale, conveyance, storage, and exchange of surplus project water and nonproject water for irrigation or M&I use to provide up to 10,000 acre-feet of water annually for a term of up to 1 year, or up to 1,000 acre-feet of water annually for a term of up to 40 years.

2. Water user entities responsible for payment of O&M costs for Reclamation projects in Colorado, Kansas, Montana, Nebraska, North Dakota, Oklahoma, South Dakota, Texas, and Wyoming: Contracts for extraordinary maintenance and replacement funded pursuant to Subtitle G of Pub. L. 111-11.

3. Green Mountain Reservoir, Colorado-Big Thompson Project, Colorado: Water service contracts for irrigation and M&I; contracts for the sale of water from the marketable yield to water users within the Colorado River Basin of western Colorado.

4. Ruedi Reservoir, Fryingpan-Arkansas Project, Colorado: Water sales from the regulatory capacity of Ruedi Reservoir. Water service and repayment contracts for the remainder of the marketable yield for irrigation and M&I use.

5. Garrison Diversion Conservancy District, Garrison Diversion Unit, P-SMBP, North Dakota: Intent to modify long-term water service contract to add additional irrigated acres.

6. Fryingpan-Arkansas Project, Colorado: Consideration of excess capacity contracting in the Fryingpan-Arkansas Project.

7. Colorado-Big Thompson Project, Colorado: Consideration of excess capacity contracting in the Colorado-Big Thompson Project.

8. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project.

9. Northern Integrated Supply Project, Colorado-Big Thompson Project, Colorado: Consideration of a new long-term contract with approximately 15 regional water suppliers and the Northern Colorado Water Conservancy District for the Northern Integrated Supply Project.

10. Exxon Mobil Corporation, Ruedi Reservoir, Fryingpan-Arkansas Project, Colorado: Consideration of Exxon Mobil Corporation's request to amend its Ruedi Round I contract to include additional uses for the water.

11. Colorado River Water Conservation District, Colorado-Big Thompson Project, Colorado: Long-term exchange, conveyance, and storage contract to implement the Exhibit B Agreement of the Settlement Agreement on Operating Procedures for Green Mountain Reservoir Concerning Operating Limitations and in Resolution of the Petition Filed August 7, 2003, in Case No. 49-CV-2782 (The United States v. Northern Colorado Water Conservancy District, et al., U.S. District Court for the District of Colorado, Case No. 2782 and Consolidated Case Nos. 5016 and 5017).

12. Glendo Unit, P-SMBP, Wyoming: Intent to enter into a long-term excess capacity contract with Pacificorp.

13. Roger W. Evans (Individual), Boysen Unit, P-SMBP, Wyoming: Renewal of long-term water service contract.

14. Big Horn Canal ID, Boysen Unit, P-SMBP, Wyoming: Renewal of the District's long-term water service contract.

15. Hanover ID, Boysen Unit, P-SMBP, Wyoming: Renewal of the District's long-term water service contract.

16. Busk-Ivanhoe, Inc., Fryingpan-Arkansas project, Colorado: Contract for long-term carriage and storage, and/or a new contract for an additional use of water.

17. State of Colorado, Department of Corrections, Fryingpan-Arkansas Project, Colorado: Consideration of a request for a long-term excess capacity storage contract in Pueblo Reservoir.

18. Southeastern Water Conservancy District, Fryingpan-Arkansas Project, Colorado: Consideration of an excess capacity master storage contract.

19. Green Mountain Reservoir, Colorado-Big Thompson Project, Colorado: Consideration of a request for a long-term contract for the use of excess capacity for municipal-recreational purposes to the 15-Mile Reach.

20. Municipal Recreation Contract out of Granby Reservoir, Colorado-Big Thompson Project, Colorado: Supplement to contract No. 9-07-70-W0020 to allow Northern Colorado Water Conservancy District to contract for delivery of 5,412.5 acre-feet of water annually out of Lake Granby to the 15-Mile Reach.

21. State of Kansas Department of Wildlife and Parks, Glen Elder Unit, P-SMBP, Kansas: Intent to enter into a contract for the remaining conservation storage in Waconda Lake for recreation and fish and wildlife purposes.

22. Arkansas Valley Conduit, Fryingpan-Arkansas Project, Colorado: Consideration of a repayment contract for the Arkansas Valley Conduit.

23. Scotty Phillip Cemetery, Mni-Wiconi Project, South Dakota: Consideration of a new long-term M&I water service contract.

24. Northern Colorado Water Conservancy District, Colorado Big Thompson Project, Colorado: Amend or supplement the repayment contract to include the Carter Lake Dam Additional Outlet Works and Flatiron Power Plant Bypass facilities.

25. Miscellaneous water users in North Dakota and South Dakota: Intent to develop short- or long-term water service contracts for minor amounts of water to serve domestic needs at Reclamation reservoirs.

26. Jamestown Reservoir, Jamestown Unit, P-SMBP, North Dakota: Intent to enter into an individual long-term irrigation water service contract to provide up to 285 acre-feet of water annually for a term of up to 40 years from Jamestown Reservoir, North Dakota.

27. Southeastern Colorado Water Conservancy District, Fryingpan-Arkansas Project, Colorado: Consideration of amendatory contract to address a change in timing of their repayment obligation.

28. Donala Water and Sanitation District, Fryingpan-Arkansas Project, Colorado: Consideration of a long-term excess capacity contract.

29. Republican River Basin, P-SMBP, Kansas/Nebraska: Consideration of short-term contract(s) for use of Reclamation facilities during non-irrigation season.

30. Purgatoire Water Conservancy District, Trinidad Project, Colorado: Consideration of an amendment to the contract to ensure repayment of costs within the 70-year repayment period, and consideration of an amendment to change the operating principles of the contract.

31. Soldier Canyon Filter Plant, City of Fort Collins, City of Greeley, and Northern Colorado Water Conservancy District; Colorado-Big Thompson Project; Colorado: Consideration of temporary excess capacity contract(s) in Horsetooth Reservoir.

32. F. Clarke Jackman Jr., Boysen Unit, P-SMBP, Wyoming: Renewal of a long-term water service contract.

33. Gregory and Margaret Lungren, Boysen Unit, P-SMBP, Wyoming: Renewal of a long-term water service contract.

34. Grey Reef Ranch, LLC, Kendrick Project, Wyoming: Renewal of a long-term Warren Act contract.

35. Doug and Michelle Hamilton, Boysen Unit, P-SMBP, Wyoming: Renewal of a long-term water service contract.

36. Frank Robbins, Boysen Unit, P-SMBP, Wyoming: Renewal of a long-term water service contract.

37. Wade W. Jacobsen, Boysen Unit, P-SMBP, Wyoming: Renewal of a long-term water service contract.

38. Yellowtail Unit, P-SMBP, Montana: Negotiation of a water allocation agreement with the Crow Tribe for 300,000 acre-feet of storage in Bighorn Lake pursuant to the Crow Tribe Water Rights Settlement Act of 2010 (Pub. L. 111-291, enacted December 8, 2010).

39. Garrison Diversion Unit, P-SMBP, North Dakota: Renegotiation of the master repayment contract with Garrison Diversion Conservancy District to conform with the Dakota Water Resources Act of 2000; negotiation of water service or repayment contracts with irrigators and M&I users.

40. Oil and Gas Industry Contractors; P-SMBP; North Dakota, South Dakota, Montana and Wyoming: Consideration of a form of contract for water service from P-SMBP reservoirs for industrial purposes.

41. East Bench ID, East Bench Unit, Three Forks Division, P-SMBP, Montana: Consideration of a contract amendment, pursuant to Pub. L. 112-139, to extend the term of contract No. 14-06-600-3593 through December 31, 2013.

42. Western Heart ID, Lower Heart Irrigation Company, and Individual Irrigators; Heart Butte Unit; P-SMBP; North Dakota: Consideration of a new or amended long-term irrigation water service or repayment contract and new or amended project-use power contract.

43. State of Colorado, Armel Unit, P-SMBP, Colorado: Consideration of a contract amendment to address future OM&R costs.

44. Central Oklahoma Master Conservancy District, Norman Project, Oklahoma: Amend existing contract No. 14-06-500-590 to allow for importation and storage of nonproject water in accordance with the Lake Thunderbird Efficient Use Act of 2012.

45. Helena Valley ID; Valley Unit, P-SMBP; Montana: Proposed contract amendment to allow the sale and delivery of excess water for miscellaneous purposes.

46. Northern Colorado Water Conservancy District, Colorado Big Thompson Project, Colorado: Consideration of an amendment to describe the District's commitment to evaluate and address factors that are contributing to reduced clarity in Grand Lake.

Completed contract actions:

1. Colorado River Water Conservation District, Ruedi Reservoir, Fryingpan-Arkansas Project, Colorado: Consideration of a request for a long-term contract to provide 7,412.5 acre-feet of water annually to supplement flows for fish in the 15-Mile Reach of the Colorado River near Grand Junction. Completed December 26, 2012.

2. Glendo Unit, P-SMBP, Wyoming: Intent to enter into a long-term contract with the Wyoming Water Development Office for the uncontracted portion of Glendo Reservoir storage water allocated to the State of Wyoming. Completed October 19, 2012.

3. Herrin Ranch, Boysen Unit, P-SMBP, Wyoming: Intent to enter into a long-term renewal contract. Completed September 14, 2012.

Dated: February 14, 2013.
Roseann Gonzales,
Director, Policy and Administration.

[FR Doc. 2013-08618 Filed 4-11-13; 8:45 am]

BILLING CODE 4310-MN-P